DEPARTMENT OF THE TREASURY

Community Development Financial Institutions Fund

Information Collection Request; Notice and Request for Public Comment

SUMMARY: The U.S. Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions Fund (CDFI Fund), U.S. Department of the Treasury, is soliciting comments concerning the Bank Enterprise Award Program (BEA Program) Application.

DATES: Written comments must be received on or before October 11, 2016 to be assured of consideration.

ADDRESSES: Submit your comments via email to Bob Ibanez, BEA Program Manager, CDFI Fund, at bea@cdfi.treas.gov.

FOR FURTHER INFORMATION CONTACT: Bob Ibanez, BEA Program Manager, CDFI Fund, U.S. Department of the Treasury, 1500 Pennsylvania Avenue NW., Washington, DC. 20220. Other information regarding the CDFI Fund and its programs may be obtained through the CDFI Fund's Web site at http://www.cdfifund.gov.

SUPPLEMENTARY INFORMATION:

Title: Bank Enterprise Award Program Application.

OMB Number: 1559-0005.

Abstract: The purpose of the Bank Enterprise Award Program (BEA Program) is to provide an incentive to FDIC-insured depository institutions to increase their activities in the form of loans, investments, services, and technical assistance, within distressed communities and provide financial assistance to community development financial institutions through grants, stock purchases, loans, deposits, and other forms of financial and technical assistance. The CDFI Fund will make awards through the BEA Program to FDIC-insured depository institutions, based upon such institutions' completion of certain qualified activities, as reported in the application. The application will solicit information concerning: applicants' eligibility to participate in the BEA Program; the quantity (value) of applicants' activities, and the extent to which such activities may be qualified activities; and appropriate supporting documentation. The questions that the application contains, and the information generated thereby, will enable the CDFI Fund to evaluate applicants' activities and determine the extent of applicants' eligibility for BEA Program awards.

Current Actions: Renewal of Existing Information Collection.

Type of Review: Regular Review.

Affected Public: Private Sector, businesses or other for-profits, not-for-profit institutions; State, Local, and Tribal Governments.

Estimated Number of Respondents: 75.

Estimated Annual Time per Respondent: 20 hours.

Estimated Total Annual Burden Hours: 1,500 hours.

Requests for Comments: Comments submitted in response to this notice will be summarized and/or included in the request for OMB approval. All comments will become a matter of public record and may be published on the CDFI Fund Web site at http://www.cdfifund.gov. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services to provide information.

Authority: 12 U.S.C. 1834a, 4703, 4713, 4717; 12 CFR part 1806.

Dennis E. Nolan,
Deputy Director, Community Development Financial Institutions Fund.

[FR Doc. 2016-18559 Filed 8-9-16; 8:45 am]

BILLING CODE 4810-70-P